NUCLEAR REGULATORY COMMISSION

[Docket No. 52-007-ESP; ASLBP No. 04-821-01-ESP]

Exelon Generation Company, LLC; Establishment of Atomic Safety and Licensing Board

Pursuant to delegation by the Commission dated December 29, 1972, published in the Federal Register, 37 FR 28710, the Commission's March 2, 2004, memorandum and order (CLI-04-08, 59 NRC _ (Mar. 2, 2004)), and sections 2.104, 2.300, 2.303, 2.309, 2.311, 2.318, and 2.321 of the Commission's regulations, all as amended, an Atomic Safety and Licensing Board is being established to preside over the following proceeding:

Exelon Generation Company, LLC (Early Site Permit for Clinton ESP Site)

This Board is being established pursuant to a December 8, 2003, notice of hearing published in the Federal Register (68 FR 69426 (Dec. 12, 2003)). The hearing will consider the September 25, 2003, application of Exelon Generation Company, LLC, (Exelon) pursuant to 10 CFR part 52 for an early site permit (ESP) for the Clinton ESP site, as well as the January 12, 2004, hearing request and petition to intervene submitted by the Blue Ridge Environmental Defense League, the Nuclear Information and Resource Service, Public Citizen, the Environmental Law and Policy Center, and the Nuclear Energy Information Service regarding the Exelon ESP application.

The Board is comprised of the following administrative judges:

G. Paul Bollwerk, III, Chair, Atomic Safety and Licensing Board Panel, U.S. Nuclear Regulatory Commission, Washington, DC 20555-0001;

Dr. Paul B. Abramson, Atomic Safety and Licensing Board Panel, U.S. Nuclear Regulatory Commission, Washington, DC 20555-0001;

Dr. Anthony J. Baratta, Atomic Safety and Licensing Board Panel, U.S. Nuclear Regulatory Commission, Washington, DC 20555-0001.

All correspondence, documents, and other materials shall be filed with the administrative judges in accordance with 10 CFR 2.302, and the March 8, 2004, initial prehearing order issued in the proceeding.

Issued in Rockville, Maryland, this 22nd day of March, 2004.
G. Paul Bollwerk, III,
Chief Administrative Judge, Atomic Safety and Licensing Board Panel.

[FR Doc. E4-687 Filed 3-25-04; 8:45 am]

BILLING CODE 7590-01-P